DEPARTMENT OF TRANSPORTATION

Federal Aviation Administration

14 CFR Part 39

[Docket No. FAA-2007-27042; Directorate Identifier 2006-NM-225-AD]

RIN 2120-AA64

Airworthiness Directives; The Boeing Company Model 777-200, -300, and -300ER Series Airplanes

AGENCY: Federal Aviation Administration (FAA), DOT.

ACTION: Supplemental notice of proposed rulemaking (NPRM); reopening of comment period.

SUMMARY: We are revising an earlier proposed airworthiness directive (AD) for certain Model 777-200, -300, and -300ER series airplanes. The original NPRM would have required installing Teflon sleeving under the clamps of certain wire bundles routed along the fuel tank boundary structure, and cap sealing certain penetrating fasteners of the main and center fuel tanks. The original NPRM resulted from fuel system reviews conducted by the manufacturer. This action revises the original NPRM by adding airplanes and adding and removing certain requirements. We are proposing this supplemental NPRM to prevent electrical arcing on the fuel tank boundary structure or inside the fuel tanks, which could result in a fire or explosion.

DATES: We must receive comments on this supplemental NPRM by July 13, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1, fax 206-766-5680; e-mail me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Margaret Langsted, Aerospace Engineer, Propulsion Branch, ANM-140S, FAA, Seattle Aircraft Certification Office, 1601 Lind Avenue, SW., Renton, Washington 98057-3356; telephone (425) 917-6500; fax (425) 917-6590.

SUPPLEMENTARY INFORMATION:

Comments Invited

We invite you to send any written relevant data, views, or arguments about this proposed AD. Send your comments to an address listed under the ADDRESSES section. Include “Docket No. FAA-2007-27042; Directorate Identifier 2006-NM-225-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a notice of proposed rulemaking (NPRM) (the “original NPRM”) to amend 14 CFR part 39 to include an airworthiness directive (AD) that would apply to certain Boeing Model 777-200, -300, and -300ER series airplanes. That original NPRM was published in the Federal Register on January 29, 2007 (72 FR 3956). That original NPRM proposed to require installing Teflon sleeving under the clamps of the wire bundles routed along the fuel tank boundary structure, and cap sealing certain penetrating fasteners of the main and center fuel tanks.

Actions Since Original NPRM Was Issued

Since we issued the original NPRM, we have reviewed Boeing Alert Service Bulletin 777-57A0059, dated October 30, 2008 (released after issuance of the original NPRM), which describes procedures for cap sealing certain fasteners in the center fuel tanks that were not sealed during production. We have changed Table 1 of the supplemental NPRM to refer to Boeing Alert Service Bulletin 777-57A0059, dated October 30, 2008, as the appropriate source of service information for certain actions.

The original NPRM referred to Boeing Alert Service Bulletin 777-57A0050, dated January 26, 2006, as the appropriate source of service information for installing Teflon sleeving under the clamps of the power feeder wire bundles routed along certain fuel tank boundary structure and for cap sealing selected fasteners of the main and center fuel tanks. We have reviewed Boeing Service Bulletin 777-57A0050, Revision 2, dated May 14, 2009. Additional work is necessary for airplanes on which the original issue or Revision 1, dated August 2, 2007, of the service bulletin was done. The additional work includes the following actions, depending on airplane configuration:

• Installing additional Teflon sleeving.

• Cap sealing additional fasteners.

We have changed Table 1 of this supplemental NPRM to include Boeing Service Bulletin 777-57A0050, Revision 2, dated May 14, 2009, as the appropriate source of service information to use for accomplishing certain actions. We have also added a new paragraph (h) to this AD to give credit for actions done in accordance with Boeing Alert Service Bulletin 777-57A0050, dated January 26, 2006; or Revision 1, dated August 2, 2007; provided that the additional work specified in Boeing Service Bulletin 777-57A0050, Revision 2, dated May 14, 2009, is also done.

We have also reviewed Boeing Alert Service Bulletin 777-57A0057, Revision 1, dated August 2, 2007. The original NPRM referred to Boeing Alert Service Bulletin 777-57A0057, dated August 7, 2006, as the appropriate source of service information for cap sealing certain fasteners in the center fuel tanks that were not sealed during production. Revision 1 removes unnecessary work instructions because Work Packages 2 and 3 were completed prior to airplane delivery (for all affected airplanes). Revision 1 adds a general visual inspection to determine if certain fasteners are cap sealed and applying the cap seal to the fasteners that are not sealed. We have changed Table 1 of this supplemental NPRM to include Boeing Alert Service Bulletin 777-57A0057, Revision 1, dated August 2, 2007, as the appropriate source of service information to use for accomplishing certain actions. We have revised paragraph (g) of this supplemental NPRM (paragraph (f) of the original NPRM) to include the inspection and corrective action. We have also added a new paragraph (i) to this supplemental NPRM to give credit for actions done in accordance with Boeing Alert Service Bulletin 777-57A0057, dated August 7, 2006.

Comments

We gave the public the opportunity to participate in developing this AD. We considered the comments received from the commenters.

Request To Clarify Certain Language in Summary Section and Paragraph (g)

Boeing asks that we clarify certain language in the Summary section and paragraph (f) of the original NPRM to read “. . . Teflon sleeving under the clamps of certain wire bundles routed along the fuel tank boundary structure.” Boeing states that the current language includes the phrase “the wire bundles,” which could lead operators to believe that all wire bundles will need sleeving, not just the wire bundles called out in the referenced service information.

We agree that the subject language should be clarified. We have changed the Summary section and paragraph (g) of this supplemental NPRM accordingly.

Request To Clarify Applicability

Boeing asks that the applicability specified in Table 1 of the original NPRM be clarified by noting that Boeing Alert Service Bulletin 777-57A0051, dated May 15, 2006, does not apply to Model 777-300ER airplanes. Boeing states that the language in paragraph (c) of the original NPRM, which precedes Table 1, implies that all three service bulletins specified in the table apply to Model 777-300ER airplanes.

We agree with the commenter for the reason provided; we have changed Table 1 of this supplemental NPRM, for clarification, to include the applicable airplane models in relation to the service information.

Request To Add Maintenance Information

Continental Airlines (CAL) asks that we add maintenance information to the original NPRM. CAL states that outside of the original NPRM, it is concerned that not enough attention is being given to ensure the changes in the referenced service information are preserved for the long-term operation of the Model 777 airplane fleet. CAL notes that the original NPRM mandates a one-time change to implement the protection against ignition sources on affected airplanes; subsequent airplanes, including new deliveries entering service, already have the requirement incorporated in production. CAL states that, other than the referenced service information and some generic information in the Model 777 planning data, there is no published “maintenance” document currently available to show each specific requirement as detailed in the referenced service information. CAL adds that information detailed by the service information must be made available in manuals that are routinely used by maintenance personnel. CAL notes that Boeing is reviewing different options for routine maintenance.

We appreciate CALs concern and agree that the long-term operation of the Model 777 airplane fleet should be maintained. At the time the service information referenced by this supplemental NPRM was reviewed, the Instructions for Continued Airworthiness (ICAs) should have been updated to reflect and maintain the configuration in the supplemental NPRM throughout the life of each modified airplane. We did not recognize this deficiency at the time the service information was issued. However, Boeing is developing a revision to the ICAs that should be available to operators in the fall of 2010 for the required modifications. Operators will be notified when the revision is available. We may consider additional rulemaking when revised ICAs are issued to mandate their incorporation. We have not changed the supplemental NPRM in this regard.

Request To Extend the Compliance Time

The Air Transport Association (ATA) on behalf of its member Delta Air Lines Inc. (Delta) asks that we consider reviewing the compliance time to better align with industry standard tank entry intervals. Delta notes that the modifications will require entry into the main and center fuel tanks; the main fuel tanks are opened at 8-year intervals; and the center tank is opened at 4-year intervals. Delta states that the 60-month compliance time to accomplish corrective action will be acceptable for work required in the center tank, but will force main tank entry earlier than normally scheduled maintenance.

We disagree with extending the proposed compliance time. The commenters did not provide any technical information to substantiate the assertion that extending the compliance time would not affect flight safety. In developing an appropriate compliance time, we considered the safety implications, parts availability, and normal maintenance schedules for timely accomplishment of the modification. Further, we arrived at the proposed compliance time with consideration of operator and manufacturer input. In consideration of these factors, we determined that the compliance time, as proposed, represents an appropriate interval in which the modification can be done in a timely manner within the fleet, while still maintaining an adequate level of safety. However, under the provisions of paragraph (j)(1) of this AD, we will consider requests for an adjustment to the compliance time if data are submitted to substantiate that such an adjustment would provide an acceptable level of safety. We have not changed the supplemental NPRM in this regard.

Explanation of Changes to This Supplemental NPRM

We have changed this supplemental NPRM to identify the legal name of the manufacturer as published in the most recent type certificate data sheet for the affected airplane models.

Boeing Commercial Airplanes has received an Organization Designation Authorization (ODA), which replaces the previous designation as a Delegation Option Authorization (DOA) holder. We have revised paragraph (j)(3) of this AD to add delegation of authority to Boeing Commercial Airplanes ODA to approve an alternative method of compliance for any repair required by this AD.

FAA's Determination and Proposed Requirements of the Supplemental NPRM

We are proposing this supplemental NPRM because we evaluated all pertinent information and determined an unsafe condition exists and is likely to exist or develop on other products of the same type design. Certain changes described above expand the scope of the original NPRM. As a result, we have determined that it is necessary to reopen the comment period to provide additional opportunity for the public to comment on this supplemental NPRM.

Explanation of Change to Costs of Compliance

Since issuance of the original NPRM, we have increased the labor rate used in the Costs of Compliance from $80 per work hour to $85 per work hour. The Costs of Compliance information, below, reflects this increase in the specified hourly labor rate.

Costs of Compliance

There are about 694 airplanes of the affected design in the worldwide fleet. This proposed AD would affect about 129 airplanes of U.S. registry. We also estimate that it would take between 278 and 358 work-hours per product to comply with the basic requirements of this proposed AD. Required parts would cost about $2,241 per product. The average labor rate is $85 per work-hour. Based on these figures, we estimate the cost of these proposed actions to the U.S. operators to be between $3,337,359 and $4,214,559, or $25,871 and $32,671 per product, depending on airplane configuration.

Currently, there are no affected Group 3 airplanes on the U.S. Register. However, if a Group 3 airplane is imported and placed on the U.S. Register in the future, the required actions would take about 480 work hours, at an average labor rate of $85 per work hour. Required parts would cost about $2,241 per product. Based on these figures, we estimate the cost of this proposed AD for Group 3 airplanes to be $43,041 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2007-27042; Directorate Identifier 2006-NM-225-AD.

Comments Due Date

(a) We must receive comments by July 13, 2010.

Affected ADs

(b) None.

Applicability

(c) This AD applies to the applicable The Boeing Company airplanes; certificated in any category; as identified in the service information specified in Table 1 of this AD.

Table 1—Service Information
For Model— | Boeing service information—
777-200, -300, and -300ER airplanes | Service Bulletin 777-57A0050, Revision 2, dated May 14, 2009.
777-200 and -300 airplanes | Alert Service Bulletin 777-57A0051, dated May 15, 2006.
777-200, -300, and -300ER airplanes | Alert Service Bulletin 777-57A0057, Revision 1, dated August 2, 2007.
777-200, -300, and -300ER airplanes | Boeing Alert Service Bulletin 777-57A0059, dated October 30, 2008.

Note 1: Although Boeing Alert Service Bulletin 777-57A0050, Revision 2, refers to “Model 777-200ER” airplanes, this is a European designation that does not apply to airplanes of U.S. registry. Therefore, the applicability of this AD will not specify Model 777-200ER airplanes. However, U.S. operators should consider any reference to Model 777-200ER airplanes in Boeing Alert Service Bulletin 777-57A0050, Revision 2, as applicable to Model 777-200 airplanes as designated by the type certificate data sheet.

Subject

(d) Air Transport Association (ATA) of America Code 57: Wings.

Unsafe Condition

(e) This AD results from fuel system reviews conducted by the manufacturer. The Federal Aviation Administration is issuing this AD to prevent electrical arcing on the fuel tank boundary structure or inside the main and center fuel tanks, which could result in a fire or explosion.

Compliance

(f) You are responsible for having the actions required by this AD performed within the compliance times specified, unless the actions have already been done.

Corrective Actions (Installing Teflon Sleeving, Cap Sealing, One-Time Inspection)

(g) Within 60 months after the effective date of this AD, do the applicable actions specified in paragraph (g)(1), (g)(2), (g)(3), or (g)(4) of this AD.

(1) For airplanes identified in Boeing Service Bulletin 777-57A0050, Revision 2, dated May 14, 2009: Install Teflon sleeving under the clamps of certain wire bundles routed along the fuel tank boundary structure and cap seal certain penetrating fasteners of the fuel tanks, in accordance with the Accomplishment Instructions of Boeing Service Bulletin 777-57A0050, Revision 2, dated May 14, 2009.

(2) For airplanes identified in Boeing Alert Service Bulletin 777-57A0051, dated May 15, 2006: Cap seal certain penetrating fasteners of the fuel tanks, in accordance with the Accomplishment Instructions of Boeing Alert Service Bulletin 777-57A0051, dated May 15, 2006.

(3) For airplanes identified in Boeing Alert Service Bulletin 777-57A0057, Revision 1, dated August 2, 2007: Do a general visual inspection to determine if certain fasteners are cap sealed and do all applicable corrective actions, in accordance with the Accomplishment Instructions of Boeing Alert Service Bulletin 777-57A0057, Revision 1, dated August 2, 2007. Do all applicable corrective actions before further flight.

(4) For airplanes identified in Boeing Alert Service Bulletin 777-57A0059, dated October 30, 2008: Cap seal the fasteners in the center fuel tanks that were not sealed during production, in accordance with the Accomplishment Instructions of Boeing Alert Service Bulletin 777-57A0059, dated October 30, 2008.

Credit for Actions Done Using Previous Issues of the Service Bulletins

(h) Actions done before the effective date of this AD in accordance with the Accomplishment Instructions of Boeing Alert Service Bulletin 777-57A0050, dated January 26, 2006; or Revision 1, dated August 2, 2007; are acceptable for compliance with the corresponding actions required by paragraph (g)(1) of this AD, provided that the applicable additional work specified in Boeing Service Bulletin 777-57A0050, Revision 2, dated May 14, 2009, is done within the compliance time specified in paragraph (g) of this AD. The additional work must be done in accordance with Boeing Service Bulletin 777-57A0050, Revision 2, dated May 14, 2009.

(i) Actions done before the effective date of this AD in accordance with the Accomplishment Instructions of Boeing Alert Service Bulletin 777-57A0057, dated August 7, 2006, are acceptable for compliance with the actions required by paragraph (g)(3) of this AD.

Alternative Methods of Compliance (AMOCs)

(j)(1) The Manager, Seattle Aircraft Certification Office (ACO), FAA, has the authority to approve AMOCs for this AD, if requested using the procedures found in 14 CFR 39.19. Send information to ATTN: Margaret Langsted, Aerospace Engineer, Propulsion Branch, ANM-140S, FAA, Seattle ACO, 1601 Lind Avenue, SW., Renton, Washington 98057-3356; telephone (425) 917-6500; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

Issued in Renton, Washington, on June 10, 2010.
Jeffrey E. Duven,
Acting Manager, Transport Airplane Directorate, Aircraft Certification Service.

[FR Doc. 2010-14792 Filed 6-17-10; 8:45 am]

BILLING CODE 4910-13-P